DEPARTMENT OF COMMERCE

National Oceanic and Atmospheric Administration

[I.D. 053000F]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council and its Squid, Mackerel, and Butterfish Committee, Dolphin/Wahoo Committee, Comprehensive Management Committee, Habitat Committee, Executive Committee, and Law Enforcement Committee will hold a public meeting.

DATES: The meetings will be held on Tuesday, June 20, 2000 to Thursday, June 22, 2000. See SUPPLEMENTARY INFORMATION for specific dates and times.

ADDRESSES: This meeting will be held at the Danford's Inn, 25 E. Broadway, Port Jefferson, NY; telephone: 1-800-332-6367.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: On Tuesday, June 20th, the Squid, Mackerel and Butterfish Committee will meet from 1:00-5:00 p.m. On Wednesday, June 21st, the Dolphin/Wahoo Committee will meet from 8:00-9:00 a.m. The Comprehensive Management Committee will meet from 9:00-12:00 p.m. The Habitat Committee will meet from 1:00 p.m. until 4:00 p.m. The Executive Committee will meet from 3:00 p.m. until 5:00 p.m. On Thursday, June 22nd, the Law Enforcement Committee will meet from 8:00 a.m. until 9:00 a.m. Council will convene at 9:00 a.m. and will be in session until 1:00 p.m.

Agenda items for this meeting are: Discuss actions necessary to remedy disapproved portion of Amendment 8 (gear impacts on Essential Fish Habitat) to the Squid, Mackerel, and Butterfish Fishery Management Plan (FMP). Consider additional areas to be identified as Essential Fish Habitat for Illex. Consider revising quota setting procedure for Illex (allow in-season quota adjustment). Consider extending moratorium on entry to Illex fishery. Consider measures to protect Loligo egg masses (possible season/area closures). Consider controlled access plan for Atlantic mackerel fishery. Review and comment on South Atlantic Fishery Management Council Dolphin/Wahoo FMP. Develop recommendation(s) regarding Dolphin/Wahoo for presentation to and action by MAFMC. Discuss and prioritize cooperative research items associated with MAFMC's research set aside initiative. Discuss and provide comments on “NMFS Budget Review Project. Discuss and identify Council's habitat research priorities. Discuss and clarify role of committee regarding meeting Council's habitat responsibilities. Review MAFMC's first half budget status/performance. Discuss audit report findings for FY95, FY96, FY97, and FY98. Discuss recent Executive Order regarding establishment of marine reserves. Comment on enforceability of Dolphin/Wahoo proposed management measures. Finalize and approve Fishery Award Program and related forms. Approve operational guidelines for the Law Enforcement Committee. The Council will also approve minutes from its May, 2000 meeting, review and comment on May meeting actions, and receive organizational reports from the NMFS Regional Administrator, NMFS Science Center Director, NOAA Office of General Counsel, U.S. Fish and Wildlife, Federal Enforcement units and the Atlantic States Marine Fisheries Commission. It will also receive Committee reports from the following committees: New England Council, South Atlantic Council, Demersal, Squid, Mackerel, and Butterfish, Dolphin/Wahoo, Comprehensive Management, Habitat, Executive and Law Enforcement.

Although non-emergency issues not contained in this agenda may come before the MAFMC for discussion, these issues may not be the subject of formal Council action during this meeting. MAFMC action will be restricted to those issues specifically listed in this notice and any issues arising after publication of this notice that require emergency action under section 305(c) of the Magnuson-Stevens Act, provided the public has been notified of the MAFMC's intent to take final actions to address such emergencies.

Special Accommodations

These meetings are physically accessible to people with disabilities. Requests for sign language interpretation or other auxiliary aids should be directed to Joanna Davis at the Council (see ADDRESSES) at least 5 days prior to the meeting date.

Dated: May 31, 2000.
Richard W. Surdi,
Acting Director, Office of Sustainable Fisheries, National Marine Fisheries Service.

[FR Doc. 00-14200 Filed 6-5-00; 8:45 am]

BILLING CODE 3510-22-F